DEPARTMENT OF TRANSPORTATION

Federal Aviation Administration

RTCA Special Committee 202: Portable Electronic Devices

Correction

In notice document 06-5635 beginning on page 36163 in the issue of Friday, June 23, 2006, make the following correction:

On page 36163, in the third column, under DATES, in the last line “1-14, 2006” should read “10-14, 2006”.

[FR Doc. C6-5635 Filed 7-3-06; 8:45 am]

BILLING CODE 1505-01-D